DEPARTMENT OF HOMELAND SECURITY

Coast Guard

33 CFR Part 117

[Docket No. USCG-2018-0287

Drawbridge Operation Regulation; Isle of Wight (Sinepuxent) Bay, Ocean City, MD

AGENCY: Coast Guard, DHS.

ACTION: Notice of deviation from drawbridge regulation.

SUMMARY: The Coast Guard has issued a temporary deviation from the operating schedule that governs the US 50/Harry W. Kelly Memorial Bridge, which carries US 50 and Ocean Gateway across the Isle of Wight (Sinepuxent) Bay, mile 0.5, at Ocean City, MD. The deviation is necessary to facilitate the “Island to Island” Half Marathon. This deviation allows the bridge to remain in the closed-to-navigation position.

DATES: The deviation is effective from 8 a.m. through 10:30 a.m. on April 28, 2018.

ADDRESSES: The docket for this deviation, [USCG-2018-0287] is available at http://www.regulations.gov. Type the docket number in the “SEARCH” box and click “SEARCH”. Click on Open Docket Folder on the line associated with this deviation.

FOR FURTHER INFORMATION CONTACT: If you have questions on this temporary deviation, call or email Mr. Michael Thorogood, Bridge Administration Branch Fifth District, Coast Guard, telephone 757-398-6557, email Michael.R.Thorogood@uscg.mil.

SUPPLEMENTARY INFORMATION: The OC Tri Running Sports, on behalf of the Maryland State Highways Administration, owner and operator of the US 50/Harry W. Kelly Memorial Bridge that carries US 50 and Ocean Gateway across the Isle of Wight (Sinepuxent) Bay, mile 0.5, at Ocean City, MD, has requested a temporary deviation from the current operating regulations to ensure the safety of the participants and spectators associated with the “Island to Island” Half Marathon on Saturday, April 28, 2018. This bridge is a double bascule drawbridge, with a vertical clearance of 13 feet above mean high water in the closed position and unlimited vertical clearance in the open position.

The current operating regulation is set out in 33 CFR 117.559. Under this temporary deviation, the bridge will be maintained in the closed-to-navigation position from 8 a.m. through 10:30 a.m. on April 28, 2018.

The Isle of Wight (Sinepuxent) Bay is used by a variety of vessels small fishing vessels and recreational vessels. The Coast Guard has carefully considered the nature and volume of vessel traffic on the waterway in publishing this temporary deviation.

Vessels able to pass through the bridge in the closed-to-navigation position may do so at any time. The bridge will be able to open for emergencies and there is no immediate alternative route for vessels unable to pass through the bridge in the closed position. The Coast Guard will also inform the users of the waterway through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: April 19, 2018.
Jerry R. Barnes,
Captain, U.S. Coast Guard, Fifth Coast Guard District.

[FR Doc. 2018-08754 Filed 4-25-18; 8:45 am]

BILLING CODE 9110-04-P